OFFICE OF PERSONNEL MANAGEMENT

5 CFR Part 532

RIN 3206-AM49

Prevailing Rate Systems; Abolishment of Monmouth, NJ, as a Nonappropriated Fund Federal Wage System Wage Area

AGENCY: U.S. Office of Personnel Management.

ACTION: Final rule.

SUMMARY: The U.S. Office of Personnel Management is issuing a final rule to abolish the Monmouth, New Jersey, nonappropriated fund (NAF) Federal Wage System (FWS) wage area and redefine Monmouth County, NJ, to the Burlington, NJ, NAF wage area. These changes are necessary because the closure of Fort Monmouth left the Monmouth wage area without an activity having the capability to conduct a local wage survey.

DATES: Effective date: This regulation is effective on February 27, 2012.

FOR FURTHER INFORMATION CONTACT: Madeline Gonzalez, (202) 606-2838; email pay-leave-policy@opm.gov; or Fax: (202) 606-4264.

SUPPLEMENTARY INFORMATION: On August 25, 2011, the U.S. Office of Personnel Management (OPM) issued an interim rule (76 FR 53045) to abolish the Monmouth, New Jersey, nonappropriated fund (NAF) Federal Wage System (FWS) wage area and redefine Monmouth County, NJ, to the Burlington, NJ, NAF wage area. FWS employees remaining in the Monmouth wage area were transferred to the Burlington wage area schedule on the first day of the first applicable pay period beginning on or after October 15, 2011. The Federal Prevailing Rate Advisory Committee, the national labor-management committee responsible for advising OPM on matters concerning the pay of FWS employees, reviewed and recommended these changes by consensus. The interim rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, under the authority of 5 U.S.C. 5343, the interim rule published on August 25, 2011, amending 5 CFR part 532 (76 FR 53045) is adopted as final with no changes.

[FR Doc. 2012-4548 Filed 2-24-12; 8:45 am]

BILLING CODE 6325-39-P